DEPARTMENT OF ENERGY

Federal Energy Regulatory Commission

[Project No. 2611-038 Maine]

Kimberly-Clark Tissue Company, UAH-Hydro-Kennebec Limited Partnership and Madison Paper Industries; Notice of Availability of Environmental Assessment

March 9, 2000.

In accordance with the National Environmental Policy Act of 1969 and the Federal Energy Regulatory Commission's regulations, 18 CFR part 380 (Order No. 486, 52 FR 47910), the Office of Hydropower Licensing has prepared an environmental assessment (EA) for Kimberly-Clark Tissue Company, UAH-Hydro-Kennebec Limited Partnership, and Madison Paper Industries' (licensees) application to amend the license for the Hydro-Kennebec Project. Specifically, the licensees propose to delete from the license in inoperable old powerhouse and related facilities. The old powerhouse has been inoperable since 1998 and has an authorized capacity of 3,730 kilowatts. The changes would reduce the project's authorized capacity from 19,163 kilowatts to 15,433 kilowatts. The Hydro-Kennebec Project is located on the Kennebec River in Kennebec and Somerset Counties, Maine.

In the EA, staff concludes that approval of the licensee's application would not constitute a major Federal action significantly affecting the quality of the human environment. The EA is attached to a Commission order issued on March 6, 2000 for the above application. Copies of the EA can be obtained by calling the Commission's Public Reference Room at (202) 208-1371, or through the Commission's homepage at http://www.ferc.fed.us/online/rims.htm (please call (202) 208-2222 for assistance).

David P. Boergers,
Secretary.

[FR Doc. 00-6303 Filed 3-14-00; 8:45 am]

BILLING CODE 6717-01-M